DEPARTMENT OF HEALTH AND HUMAN SERVICES

Centers for Medicare & Medicaid Services

[CMS-1302-N]

Medicare Program; Town Hall Meeting on the Medicare Provider Feedback Group (MPFG) November 16, 2004

AGENCY: Centers for Medicare & Medicaid Services (CMS), HHS.

ACTION: Notice.

SUMMARY: This notice announces a town hall meeting. The purpose of the meeting is to solicit the opinions of individual Medicare providers and suppliers to educate CMS on how we can better serve Medicare providers and suppliers. Providers, physicians, home health agencies, industry billing staff representatives, and other Medicare billers are invited to attend this meeting. We will consider facts and opinions provided by individuals during this meeting. The information gathered will be used as feedback on CMS provider and supplier communication activities and related topics. The meeting is open to the public, but attendance is limited to space available.

DATES: The meeting is scheduled for Tuesday, November 16, 2004, from 2 p.m. until 3 p.m. e.s.t.

ADDRESSES: The meeting will be held in the auditorium at the Centers for Medicare and Medicaid Services, 7500 Security Boulevard, Baltimore, Maryland 21244.

FOR FURTHER INFORMATION CONTACT: Robin Magwood, (410) 786-1999. You may also send e-mail inquiries about this meeting to RMagwood@cms.hhs.gov.

SUPPLEMENTARY INFORMATION:

Background

On November 16, 2004, we will convene a town hall meeting to solicit the opinions of individual Medicare providers and suppliers on how CMS can better serve Medicare providers and suppliers through communication education materials and other means. This meeting will provide the Agency with a venue that allows Agency managers an opportunity to interact with individual Medicare providers and suppliers and obtain their opinions on various topics. We will have follow-up meetings to solicit additional opinions and clarify any issues that may arise during the November 16, 2004 meeting.

At the November 16th meeting, we will explain CMS's design for gathering individual provider and supplier information, and then ask for opinions on how CMS can better serve the Medicare provider and supplier community. An on-line registration is available for interested individuals who wish to participate in the meeting in person or by teleconference. The on-line registration will capture contact information and practice characteristics, such as names, email addresses, and provider and supplier types.

Meeting Format: The meeting will begin with an overview of the goals and objectives of the initiative, including a discussion of our efforts to gather feedback from individual Medicare providers and suppliers. The meeting moderator will be introduced, and, along with members of the Provider Communications Group, Centers for Medicare Management, will provide background information on the initiative. We will then hold a question and answer session that offers meeting attendees an opportunity to provide feedback on how CMS serves Medicare providers and suppliers, as well as make suggestions regarding how this process can be improved.

Attending the Meeting: The Provider Communication Group, Centers for Medicare Management, Division of Provider Relations and Evaluation, is the coordinator for this meeting. This meeting will be held in a Federal Government building, and persons attending the meeting will be required to show a photographic identification, preferably a valid driver's license, and be listed on an approved security list before entering. Persons interested in attending the meeting and providing feedback must complete the on-line registration located at http://registration.intercall.com/go/cms. Registration will open on October 25, 2004 and close November 23, 2004. The on-line registration system will generate a confirmation page to indicate the completion of your registration. Please print this page as your registration receipt. Registration after 12 p.m. on November 15, 2004 will delay confirmation and individuals may not be permitted entrance to the building. However, registrations received after November 16 will enable individuals to listen to a digital recording of the meeting.

Individuals may participate in the public meeting by teleconference. The dial-in number is 877-357-7851, and you should reference conference identification number 1040512. Physicians and other interested parties may speak or ask questions during the question and answer period facilitated by the moderator. Parties may also submit written comments to the point of contact named in this Federal Register Notice.

Special Accommodations: Individuals requiring sign language interpretation or other special accommodations must contact Keri Boston by e-mail at Kboston@cms.hhs.gov.

Authority: Section 1811 and 1831 of the Social Security Act (42 U.S.C. 1395c and 1395j).

(Catalog of Federal Domestic Assistance Program No. 93.774, Medicare—Supplementary Medical Insurance Program)
Dated: October 14, 2004.
Mark B. McClellan,
Administrator, Centers for Medicare & Medicaid Services.

[FR Doc. 04-23443 Filed 10-21-04; 8:45 am]

BILLING CODE 4120-01-P